DEPARTMENT OF ENERGY

Federal Energy Regulatory Commission

[Docket No. EC02-27-001, et al.]

LG&E Power Inc., et al.; Electric Rate and Corporate Regulation Filings

December 4, 2001.

Take notice that the following filings have been made with the Commission:

1. LG&E Power Inc., American Power, Incorporated, and Progress Ventures, Inc.

[Docket No. EC02-27-001]

Take notice that on November 21, 2001, LG&E Power Inc., American Power, Incorporated (Sellers) and progress Ventures, Inc., (Buyer) (collectively, the Applicants) submitted certain additional material described in their November 19, 2001 filing in the captioned proceeding asking for Commission authorization pursuant to the provisions of section 203 of the Federal Power Act for a transaction under which the Buyer would acquire from the Sellers certain jurisdictional facilities associated with Sellers' sale to Buyer of the limited liability company membership interests of LG&E Power Monroe LLC.

The Applicants state that copies of this additional material were served on the Georgia Public Service Commission, North Carolina Utilities Commission, South Carolina Public Service Commission and the Florida Public Service Commission, who were also recipients of the November 19, 2001 filing.

Comment date: January 18, 2002, in accordance with Standard Paragraph E at the end of this notice.

2. Pacific Gas and Electric Company

[Docket No. ER01-833-000]

Take notice that on November 30, 2001, Pacific Gas and Electric Company (PG&E) tendered for filing with the Federal Energy Regulatory Commission (Commission) a Further Request for Deferral of Consideration of the unexecuted Wholesale Distribution Tariff (WDT) Service Agreement and Interconnection Agreement between Pacific Gas and Electric Company and Modesto Irrigation District (MID) filed in FERC Docket No. ER01-833-000 on December 29, 2000. PG&E and Modesto are finalizing the WDT Service Agreement and a letter agreement for review and signature, and PG&E therefore is notifying the Commission that executed agreements will not be filed by November 30, 2001, the requested deferral date.

PG&E requests that the Commission defer consideration of the proceedings filed in ER01-833-000 to February 28, 2002, 90 days beyond the last request for Deferral in order that the parties may finalize and executed the Agreements.

Copies of this filing have been served upon MID, the California Independent System Operator Corporation, and the California Public Utilities Commission.

Comment date: December 21, 2001, in accordance with Standard Paragraph E at the end of this notice.

3. Alliant Energy Corporate Services, Inc.

[Docket No. ER02-330-001]

Take notice that on November 30, 2001, the Alliant Energy Corporate Services, Inc. tendered for filing with the Federal Energy Regulatory Commission (Commission) to hold in abeyance the Alliant Energy Corporate Services, Inc.'s proposed Notice of Cancellation and revisions to its Open Access Transmission Tariff (OATT), FERC Electric Tariff, First Revised Volume No. 1, which was filed on November 14, 2001, in the Docket No. indicated above.

Alliant Energy Corporate Services, Inc. has served copies of its filing by placing a copy of same in the United States mail, first-class postage prepaid, to customers under it OATT, the Illinois Commerce Commission, Iowa Department of Commerce, Minnesota Public Utilities Commission and the Public Service Commission of Wisconsin.

Comment date: December 21, 2001, in accordance with Standard Paragraph E at the end of this notice.

4. PJM Interconnection, L.L.C.

[Docket No. ER02-235-001]

Take notice that on November 29, 2001, PJM Interconnection, L.L.C. (PJM) tendered for filing with the Federal Energy Regulatory Commission (Commission) a correction and an additional conforming change to the revisions to the PJM Open Access Transmission Tariff (PJM Tariff) that were filed in this proceeding on November 1, 2001 (November 1 Filing). PJM states that one of the PJM Tariff sheets submitted with the November 1 Filing contained calculation errors in two of the figures on the sheet and that the Commission's November 20, 2001 letter order in Docket No. ER99-396-000 requires a conforming change to the post-January 1, 2002 version of the PJM Tariff. Copies of this filing have been served on all PJM Members and the state electric regulatory commissions in the PJM control area.

PJM requests an effective date of January 1, 2002, which is the PJM West implementation date and the same effective date as the tariff amendments in the November 1 Filing.

Comment date: December 20, 2001, in accordance with Standard Paragraph E at the end of this notice.

5. PacifiCorp

[Docket No. ER01-3124-001]

Take notice that PacifiCorp on November 29, 2001, tendered for filing with the Federal Energy Regulatory Commission (Commission) in accordance with 18 CFR 35 of the Commission's Rules and Regulations and in compliance with the Commission's Order dated November 21, 2001 under FERC Docket No. ER01-3124-000 Mutual Netting/Settlement Agreements. These Netting Agreements were previously accepted for filing and are being resubmitted with the appropriate header and footer information as required in Order 614.

Copies of this filing were supplied to the Washington Utilities and Transportation Commission and the Public Utility Commission of Oregon.

Comment date: December 20, 2001, in accordance with Standard Paragraph E at the end of this notice.

6. Wellhead Power Panoche, LLC

[Docket No. ER01-3118-001]

Take notice that on November 29, 2001, Wellhead Power Panoche, LLC (Applicant) filed with the Federal Energy Regulatory Commission (Commission) a response to the Commission's Letter Order issued on November 21, 2001 in Docket No. ER01-3118-000 and tendered for filing an amended market-based rate schedule under Section 205 of the Federal Power Act in order to comply with the Federal Energy Regulatory Commission's Order Establishing Refund Effective Date and Proposing to Revise Market-Based Rate Tariffs and Authorization issued on November 20, 2001 in Docket No. EL01-118.

Comment date: December 20, 2001, in accordance with Standard Paragraph E at the end of this notice.

7. Wellhead Power Gates, LLC

[Docket No. ER01-3117-001]

Take notice that on November 29, 2001, Wellhead Power Gates, LLC (Applicant) responded to the Federal Energy Regulatory Commission (Commission) Letter Order issued on November 21, 2001 in Docket No. ER01-3117-000 and tendered for filing an amended market-based rate schedule under Section 205 of the Federal Power Act in order to comply with the Federal Energy Regulatory Commission's Order Establishing Refund Effective Date and Proposing to Revise Market-Based Rate Tariffs and Authorization issued on November 20, 2001 in Docket No. EL01-118.

Comment date: December 20, 2001, in accordance with Standard Paragraph E at the end of this notice.

8. Renaissance Power, L.L.C.

[Docket No. ER01-3109-001]

Take notice that on November 30, 2001, Renaissance Power, L.L.C. (Renaissance) tendered for filing with the Federal Energy Regulatory Commission (Commission) pursuant to Rule 205, 18 CFR 385.205, a revised FERC Electric Tariff No. 1 in compliance with the Commission's letter order dated November 20, 2001 in the above docket, which required Renaissance to include a provision in its tariff prohibiting power purchases from franchised public utility affiliates.

Comment date: December 21, 2001, in accordance with Standard Paragraph E at the end of this notice.

9. FPL Energy Marcus Hook, L.P.

[Docket No. ER01-2929-001]

On November 30, 2001, FPL Energy Marcus Hook, L.P. (the Applicant), filed with the Federal Energy Regulatory Commission (Commission) an application for determination of exempt wholesale generator status pursuant to Part 365 of the Commission's regulations.

Applicant states that it is a Delaware limited partnership engaged directly and exclusively in the business of developing and operating an approximately 740 MW generating facility to be located in Marcus Hook, Pennsylvania. Electric energy produced by the facility will be sold at wholesale or at retail exclusively to foreign consumers.

Comment date: December 21, 2001, in accordance with Standard Paragraph E at the end of this notice.

10. Rock River I, LLC

[Docket No. ER01-2742-001]

Take notice that on November 28, 2001, Rock River I, LLC (Rock River) filed with the Federal Energy Regulatory Commission (Commission) informing the Commission of a change in status as a result of a change in its upstream corporate ownership. Rock River is the owner of a wind energy generating facility located in Carbon County, Wyoming and is interconnected with the system of PacifiCorp.

Comment date: December 19, 2001, in accordance with Standard Paragraph E at the end of this notice.

11. PJM Interconnection, L.L.C.

[Docket No. ER02-212-001]

Take notice that on November 29, 2001, PJM Interconnection, L.L.C. (PJM), submitted corrections to the amendments to Schedule 2 of the PJM Open Access Transmission Tariff (PJM Tariff) that were submitted in this docket on October 31, 2001 (October 31 Filing). PJM states that the corrections are required to correct two calculation errors in the monthly reactive power service revenue requirements submitted with the October 31 filing. Copies of this filing were served upon all PJM members and the state electric regulatory commissions in the PJM control area.

PJM requests an effective date of January 1, 2002 for the corrections, to conform to the effective date requested for the PJM Tariff amendments submitted with the October 31 filing.

Comment date: December 20, 2001, in accordance with Standard Paragraph E at the end of this notice.

12. ISO New England Inc.

[Docket No. ER01-3086-001]

Take notice that on December 1, 2001, ISO New England Inc. submitted as a compliance report on its Load Response Program and the addition of new generation in New England in the above Docket.

Comment date: December 24, 2001, in accordance with Standard Paragraph E at the end of this notice.

13. Sithe Edgar LLC, Sithe New Boston LLC, Sithe Farmingham Llc, Sithe West Medway LLC, Sithe Mystic LLC, AG-Energy, L.P., Power City Partners, L.P., Seneca Power Partners, L.P., Sterling Power Partners, L.P., Sithe Power Marketing, L.P., and Sithe Power Marketing, Inc.

[Docket No. ER01-513-002]

Take notice that on November 30, 2001, the above referenced entities filed with the Federal Energy Regulatory Commission (Commission) the rate schedule designations for their FERC Electric Schedules Nos. 1 and 2, in compliance with Order No. 614.

Comment date: December 21, 2001, in accordance with Standard Paragraph E at the end of this notice.

14. New York State Electric & Gas Corporation

[Docket Nos. ER97-2353-006]

Take notice that on November 30, 2001, New York State Electric & Gas Corporation (NYSEG) tendered for filing an amendment to its September 15, 2001 Compliance Filing in the above docket to supply additional information requested by the Federal Energy Regulatory Commission (Commission) in its October 30, 2001 letter in the above-captioned dockets.

Copies of the filing have been served on all parties listed on the official service list maintained by the Secretary of the Commission in the above docket.

Comment date: December 21, 2001, in accordance with Standard Paragraph E at the end of this notice.

15. Dynegy Power Marketing, Inc., Illinova Energy Partners, Inc., Dynegy Power Services, Inc., Illinois Power Company, El Segundo Power, LLC, Long Beach Generation LLC, Cabrillo Power I LLC, Cabrillo Power II LLC, Rockingham Power, LLC, Rocky Road Power, LLC, Dynegy Midwest Generation, Inc., Calcasieu Power, LLC, Dynegy Danskammer, L.L.C., Dynegy Roseton, L.L.C., Heard County Power L.L.C., Riverside Generating Company, L.L.C., and Nicor Energy, LLC

[Docket Nos. ER99-4160-002, ER94-1475-020, ER94-1612-025, ER99-3322-001, ER98-1127-004, ER98-1796-003, ER99-1115-004, ER99-1116-004, ER99-1567-001, ER99-2157-001, ER00-1895-001, ER00-1049-002, ER01-140-001, ER01-141-001, ER01-943-001, ER01-1044-001, and ER01-1169-001]

Take notice that on November 30, 2001, Dynegy Inc., on behalf of the above-noted entities, filed with the Federal Energy Regulatory Commission (Commission) a withdrawal of the notification of change in status previously filed with the Commission on November 16, 2001.

Comment date: December 21, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30548 Filed 12-10-01; 8:45 am]

BILLING CODE 6717-01-P